OFFICE OF THE UNITED STATES TRADE REPRESENTATIVE

Notice of Meeting of the Industry Trade Advisory Committee on Small and Minority Business (ITAC-11)

AGENCY: Office of the United States Trade Representative.

ACTION: Notice of a partially opened meeting.

SUMMARY: The Industry Trade Advisory Committee on Small and Minority Business (ITAC-11) will hold a meeting on Tuesday, December 4, 2012, from 1:00 p.m. to 4:00 p.m. The meeting will be opened to the public from 2:30 p.m. to 4:00 p.m.

DATES: The meeting is scheduled for December 4, 2012 unless otherwise notified.

ADDRESSES: The meeting will be held at the White House Conference Center, 726 Jackson Place NW., Washington, DC 20503.

FOR FURTHER INFORMATION CONTACT: Laura Hellstern, DFO for ITAC-11 at (202) 482-3222, Department of Commerce, 14th Street and Constitution Avenue NW., Washington, DC 20230.

SUPPLEMENTARY INFORMATION: The Agenda topics to be discussed are:

—U.S. Export Controls Reform

—Metropolitan Export Initiative

Dated: November 19, 2012.
Rebecca Rosen,
Director for Intergovernmental Affairs and Public Engagement.

[FR Doc. 2012-28501 Filed 11-23-12; 8:45 am]

BILLING CODE 3290-F3-P